DEPARTMENT OF TRANSPORTATION

National Highway Traffic Safety Administration

[NHTSA Docket No. NHTSA-2008-0071]

National Advisory Council; Notice of Federal Advisory Committee Meeting

AGENCY: National Highway Traffic Safety Administration (NHTSA), DOT.

ACTION: National Advisory Council; Notice of Federal Advisory Committee Meeting.

SUMMARY: NHTSA announces a meeting of the National Emergency Medical Services Advisory Council (NEMSAC) to be held in Washington, DC. This notice announces the date, time and location of the meeting, which will be open to the public. The purpose of NEMSAC is to establish a nationally recognized council of emergency medical services representatives and consumers to provide advice and recommendations regarding EMS to the U.S. DOT's National Highway Traffic Safety Administration (NHTSA).

DATES: The meeting will be held on April 24, 2008 from 8:45 a.m. to 5 p.m. and April 25, 2008 from 8:45 a.m. to 12 Noon. A public comment period will take place on April 25, 2008, between 10:45 a.m. and 11:15 a.m.

Comment Date: Written comments or requests to make oral presentations must be received by April 17, 2008.

ADDRESSES: The meeting will be held at the U.S. Department of Transportation (DOT) 1200 New Jersey Avenue, SE., Conference Rooms # 8-10, Main Floor, West Wing, Washington, DC 20590. Persons wishing to make an oral presentation or who are unable to attend or speak at the meeting may submit written comments. Written comments and requests to make oral presentations at the meeting should reach Drew Dawson at the address listed below and must be received by April 17, 2008.

All submissions received must include the docket number, NHTSA-2008-0071 and may be submitted by any one of the following methods:

You may submit or retrieve comments online through the Document Management System (DMS) at http://dms.dot.gov/submit. The DMS is available 24 hours each day, 365 days each year. Electronic submission and retrieval help guidelines are available under the help section of the Web site.

An electronic copy of this document may be downloaded from the Federal Register's home page at http://www.archives.gov and the Government Printing Office's database at http://www.access.gpo.gov/nara.

Please note that even after the comment closing date, we will continue to file relevant information in the docket as it becomes available.

E-mail: drew.dawson@dot.gov or susan.mchenry@dot.gov

Fax: (202) 366-7149

FOR FURTHER INFORMATION CONTACT: Drew Dawson, Director, Office of Emergency Medical Services, National Highway Traffic Safety Administration, 1200 New Jersey Avenue, SE., NTI-140, Washington, DC 20590, Telephone number (202) 366-9966; E-mail Drew.Dawson@dot.gov.

SUPPLEMENTARY INFORMATION: Notice of this meeting is given under the Federal Advisory Committee Act (FACA), Public Law 92-463, as amended (5 U.S.C. App. 1 et seq.) The NEMSAC will be holding its first meeting on Thursday and Friday, April 24 and 25, 2008, in Conference rooms #8-10 on the Main Floor, West Wing, of the U.S. Department of Transportation, 1200 New Jersey Avenue SE., Washington, DC 20590.

Agenda of Council Meeting, April 24-25, 2008

The tentative agenda includes the following:

Thursday, April 24, 2008

(1) Federal Advisory Committee Act and Ethics Briefing;

(2) Swearing in of members;

(3) Introduction of Chair and Self-introduction of members;

(4) Charge to Council and Chair's remarks;

(5) Office of EMS overview;

(6) Overview of Federal Interagency Committee on EMS (FICEMS);

(7) Overview of Office of EMS projects.

Friday, April 25, 2008

(1) NEMSAC Operations & Procedures;

(2) Council Discussion of EMS issues;

(3) Public comment period;

(4) Next steps and future meetings.

A public comment period will take place on April 25, 2008, between 10:45 a.m. and 11:15 a.m.

Public Attendance: The meeting is open to the public. Persons with disabilities who require special assistance should advise Drew Dawson of their anticipated special needs as early as possible. Members of the public who wish to make comments on Friday, April 25 between 10:45 a.m. and 11:15 a.m. are requested to register in advance. In order to allow as many people as possible to speak, speakers are requested to limit their remarks to 3 minutes. For those wishing to submit written comments, please follow the procedure noted above.

This meeting will be open to the public. Individuals wishing to register must provide their name, affiliation, phone number, and e-mail address to Drew Dawson by e-mail at drew.dawson@dot.gov or by telephone at (202) 366-9966 no later than April 17, 2008. There will be limited seating, so please register early. Pre-registration is necessary to comply with security procedures. Picture I.D. must also be provided to enter the DOT Building and it is suggested that visitors arrive 30 minutes early in order to facilitate entry. The Visitor entrance is on the New Jersey Avenue side of the building.

Minutes of the NEMSAC Meeting will be available to the public online through the DOT Document Management System (DMS) at: http://dms.dot.gov under the docket number listed at the beginning of this notice.

Jeffrey P. Michael,
Acting Associate Administrator for Research and Program Development.

[FR Doc. E8-7660 Filed 4-10-08; 8:45 am]

BILLING CODE 4910-59-P